ENVIRONMENTAL PROTECTION AGENCY

40 CFR Part 60

[AD-FRL-6570-4]

RIN 2060-AC42

Standards of Performance for New Stationary Sources and Guidelines for Control of Existing Sources: Municipal Solid Waste Landfills

AGENCY: Environmental Protection Agency (EPA).

ACTION: Final rule; technical corrections.

SUMMARY: Under the Clean Air Act (CAA), the EPA issued a final rule entitled “Standards of Performance for New Stationary Sources and Guidelines for Control of Existing Sources: Municipal Solid Waste Landfills,” published in the Federal Register on March 12, 1996 (61 FR 9905). A subsequent direct final rule, published on June 16, 1998 (63 FR 32743) corrected errors and clarified regulatory text of the final rule. These technical corrections will correct an error in the amendatory instructions and an inconsistency between the reportable exceedances and reporting of monitoring data. Section 553 of the Administrative Procedure Act, 5 U.S.C. 553(b)(B), provides that, when an agency for good cause finds that notice and public procedure are impracticable, unnecessary or contrary to the public interest, the agency may issue a rule without providing notice and an opportunity for public comment. The EPA has determined that there is good cause for making today's rule final without prior proposal and opportunity for comment because the changes to the rule are minor technical corrections, are noncontroversial in nature, and do not substantively change the requirements of the NSPS/EG rule. Thus, notice and public procedure are unnecessary. The EPA finds that this constitutes good cause under 5 U.S.C. 553(b)(B).

DATES: These technical corrections are effective April 10, 2000.

ADDRESSES: Docket No. A-88-09 contains the supporting information used in the development of this rulemaking. The docket is located at the U.S. Environmental Protection Agency in Room M-1500, Waterside Mall (ground floor), 401 M Street SW, Washington, DC 20460, and may be inspected from 8:30 a.m. to 5:30 p.m., Monday through Friday, excluding legal holidays. A reasonable fee may be charged for copying.

FOR FURTHER INFORMATION CONTACT: Ms. Michele Laur, Waste and Chemical Processes Group, Emission Standards Division (MD-13), U.S. Environmental Protection Agency, Research Triangle Park, North Carolina 27711, telephone (919) 541-5256, e-mail: laur.michele@epa.gov.

SUPPLEMENTARY INFORMATION: Regulated Entities. The entities potentially affected by this action include:

Category | SIC | Examples of regulated entities
Industry and Local Government Agencies | 4953 | Existing municipal solid waste landfills where solid waste from households is placed in or on land. Waste from commercial or industrial operations may be mixed with the household waste.

This table is not intended to be exhaustive, but rather provides a guide for readers regarding entities likely to be affected by this action. While the landfills EG and NSPS (40 CFR part 60, subparts Cc and WWW) will primarily impact facilities in the Standard Industrial Classification (SIC) code 4953, not all facilities in this code will be affected by this action. To determine if your landfill is affected by the landfills EG or NSPS, see 40 CFR part 60, subparts Cc and WWW, or the technical amendments published on June 16, 1998 (63 FR 37243).

Worldwide Web (WWW). In addition to being available in the docket, an electronic copy of today's action will be available on the WWW through the Technology Transfer Network (TTN). Following signature, a copy of this action will be posted on the TTN's policy and guidance page for newly proposed or promulgated rules http://www.epa.gov/ttn/oarpg. The TTN provides information and technology exchange in various areas of air pollution control. If more information regarding the TTN is needed, call the TTN HELP line at (919) 541-5384.

I. Background

On March 12, 1996, the EPA promulgated in the Federal Register (61 FR 9919) EG for existing municipal solid waste landfills and the NSPS for municipal solid waste landfills. These regulations and guidelines were promulgated as subparts Cc and WWW of 40 CFR part 60. This action corrects an error in the amendatory instructions, typographic and formatting errors, and it corrects three inconsistencies in the direct final action published on June 16, 1998.

II. Description of Corrections

A. Amendatory Instruction Error

Due to an error in the amendatory instructions for the direct final rule published in the Federal Register on June 16, 1998, § 60.752(b)(2)(ii) (A) and (B) and § 60.752(b)(2)(iii)(B) (1) and (2) were incorrectly removed. These technical corrections add those paragraphs back into the final rule.

B. Inconsistencies

An inconsistency exists between what constitutes a reportable exceedance for boilers and process heaters in § 60.758(c)(1)(i), and the monitoring (§ 60.756(b)(1)) and recordkeeping (§ 60.758(b)(2)) requirements for these devices. Boilers and process heaters with design heat input capacity less than or equal to 44 megawatts are required to monitor temperature and keep records. A reportable exceedance related to temperature can only occur for boilers and process heaters that are less than 44 megawatts. It was not our intent to require monitoring and recordkeeping for boilers and process heaters if their design heat input capacity is equal to or greater than 44 megawatts.

C. Typographical and Formatting Errors

A typographical error appearing in the equation in §§ 60.754(a)(1) (i), (ii) and 60.759(a)(3)(ii) is being corrected. The term “CNNMMOC” is corrected to read “CNMOC”, meaning the concentration of non-methane organic compounds.

A typographical error appearing in § 60.754(a)(1)(ii) is being corrected. The paragraph immediately following the list of terms to the equation in this section was incorrectly duplicated from the paragraph in § 60.754(a)(1)(i). The paragraph is amended to correctly reflect the method for subtracting nondegradable solid waste when actual year-to-year solid waste acceptance rates are known.

A formatting error in § 60.756(a), introductory text, is being corrected. A comma was left out between the words “thermometer” and “other.”

A typographical error appearing in § 60.757(c) is being corrected. Throughout the rule, various requirements are triggered by the emission rate cutoff of “equals or exceeds 50 megagrams per year.” The term “equals or” was inadvertently omitted. This omission is being corrected to be consistent with the remainder of the rule and with our intent.

A typographical error appearing in § 60.758(c)(1)(ii) is being corrected. This section incorrectly references § 60.758(b)(3)(i) which does not exist. The correct reference is § 60.758(b)(3).

IV. Administrative Requirements

Under Executive Order 12866 (58 FR 51735, October 4, 1993), this action is not a “significant regulatory action” and is therefore not subject to review by the Office of Management and Budget. Because the EPA has made a “good cause” finding that this action is not subject to notice and comment requirements under the Administrative Procedure Act or any other statute (see Summary), it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate as described in sections 203 and 204 of UMRA. This rule also does not significantly or uniquely affect the communities of tribal governments, as specified by Executive Order 13084 (63 FR 27655, May 10, 1998). This rule does not have substantial direct effects on the States, on the relationship between the national government and the States, as specified in Executive Order 13132 (64 FR 43255, August 10, 1999). This rule also is not subject to Executive Order 13045 (62 FR 19885, April 23, 1997), because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, the EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.). The EPA's compliance with these statutes and Executive Orders for the underlying rule is discussed in the June 16, 1998 amendments to the final NSPS/EG rule Federal Register document.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. This determination must be supported by a brief statement (5 U.S.C. 808(2)). As stated previously, the EPA has made such a good cause finding, including the reasons therefor, and established an effective date of April 10, 2000. The EPA will submit a report containing this rule and other required information to the U.S. Senate, the U.S. House of Representatives, and the Comptroller General of the United States prior to publication of the rule in the Federal Register. This action is not a “major rule” as defined by 5 U.S.C. 804(2).

List of Subjects in 40 CFR Part 60

Environmental protection, Administrative practice and procedure, Air pollution control, Hazardous waste, Intergovernmental relations, Reporting and recordkeeping requirements.

Dated: March 27, 2000.
Robert D. Brenner,
Acting Assistant Administrator, Office of Air and Radiation.

For the reasons stated in the preamble, title 40, chapter I, part 60, of the Code of Federal Regulations is amended as follows:

PART 60—[AMENDED]

1. The authority citation for part 60 continues to read as follows:

Authority: 42 U.S.C. 7401, 7411, 7414, 7416, 7429, and 7601.

Subpart WWW—[Amended]

2. Section 60.752 is amended by adding paragraphs (b)(2)(ii)(A), (b)(2)(ii)(B), (b)(2)(iii)(B)(1) and (b)(2)(iii)(B)(2) to read as follows:

§ 60.752 Standards for air emissions from municipal solid waste landfills.

* * * * *

(b) * * *

(2) * * *

(ii) * * *

(A) An active collection system shall:

(1) Be designed to handle the maximum expected gas flow rate from the entire area of the landfill that warrants control over the intended use period of the gas control or treatment system equipment;

(2) Collect gas from each area, cell, or group of cells in the landfill in which the initial solid waste has been placed for a period of:

(i) 5 years or more if active; or

(ii) 2 years or more if closed or at final grade.

(3) Collect gas at a sufficient extraction rate;

(4) Be designed to minimize off-site migration of subsurface gas.

(B) A passive collection system shall:

(1) Comply with the provisions specified in paragraphs (b)(2)(ii)(A)(1), (2), and (2)(ii)(A)(4) of this section.

(2) Be installed with liners on the bottom and all sides in all areas in which gas is to be collected. The liners shall be installed as required under § 258.40.

* * * * *

(iii) * * *

(B) * * *

(1) If a boiler or process heater is used as the control device, the landfill gas stream shall be introduced into the flame zone.

(2) The control device shall be operated within the parameter ranges established during the initial or most recent performance test. The operating parameters to be monitored are specified in § 60.756;

* * * * *

3. In § 60.754, in the equation in paragraph (a)(1)(i) the term “CNMOC” is revised to read “CNMOC” and paragraph (a)(1)(ii) is revised to read as follows:

§ 60.754 Test methods and procedures.

(a) * * *

(1) * * *

(ii) The following equation shall be used if the actual year-to-year solid waste acceptance rate is unknown.

MNMOC = 2Lo R (e−kc−e−kt) CNMOC (3.6 × 10⁻⁹)

Where:

MNMOC=mass emission rate of NMOC, megagrams per year

Lo=methane generation potential, cubic meters per megagram solid waste

R=average annual acceptance rate, megagrams per year

k=methane generation rate constant, year⁻¹

t = age of landfill, years

CNMOC=concentration of NMOC, parts per million by volume as hexane

c=time since closure, years; for active landfill c=O and e−kc1

3.6×10−9=conversion factor

The mass of nondegradable solid waste may be subtracted from the total mass of solid waste in a particular section of the landfill when calculating the value of R, if documentation of the nature and amount of such wastes is maintained.

* * * * *

4. Section 60.756 is amended in paragraph (a) introductory text by adding a comma between the words “thermometer” and “other” and by revising paragraph (b)(1) to read as follows:

§ 60.756 Monitoring of operations.

* * * * *

(b) * * *

(1) A temperature monitoring device equipped with a continuous recorder and having a minimum accuracy of ±1 percent of the temperature being measured expressed in degrees Celsius or ±0.5 degrees Celsius, whichever is greater. A temperature monitoring device is not required for boilers or process heaters with design heat input capacity equal to or greater than 44 megawatts.

* * * * *

5. Section 60.757 is amended by revising paragraph (c) introductory text to read as follows:

§ 60.757 Reporting requirements.

* * * * *

(c) Each owner or operator subject to the provisions of § 60.752(b)(2)(i) shall submit a collection and control system design plan to the Administrator within 1 year of the first report required under paragraph (b) of this section in which the emission rate equals or exceeds 50 megagrams per year, except as follows:

* * * * *

6. Section 60.758 is amended by revising paragraphs (b)(2) introductory text and (c)(1)(ii) to read as follows:

§ 60.758 Recordkeeping requirements.

* * * * *

(b) * * *

(2) Where an owner or operator subject to the provisions of this subpart seeks to demonstrate compliance with § 60.752(b)(2)(iii) through use of an enclosed combustion device other than a boiler or process heater with a design heat input capacity equal to or greater than 44 megawatts:

* * * * *

(c) * * *

(1) * * *

(ii) For boilers or process heaters, whenever there is a change in the location at which the vent stream is introduced into the flame zone as required under paragraph (b)(3) of this section.

* * * * *

§ 60.759 [Amended]

7. In § 60.759 (a)(3)(ii), the term “CNMOC” is revised to read “CNMOC”.

[FR Doc. 00-8151 Filed 4-7-00; 8:45 am]

BILLING CODE 6560-50-P